DEPARTMENT OF HEALTH AND HUMAN SERVICES

[Document Identifier: 0990-New]

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, email your request, including your address, phone number, OMB number, and ASPE document identifier, to Sherette.funncoleman@hhs.gov, or call the Reports Clearance Office at (202) 690-5683. Written comments and recommendations for the proposed information collections must be directed to the OS Paperwork Clearance Officer at the above email address within 60 days.

Proposed Project: Ryan White HIV/AIDS Program Modeling Project—OMB No. 0990-New-Office of the Assistant Secretary for Planning and Evaluation.

Abstract: The Office of the Assistant Secretary for Planning and Evaluation (ASPE) is requesting the Office of Management and Budget (OMB) approval of a new collection that will examine the service needs under the Ryan White HIV/AIDS Program as the provisions of the Affordable Care Act are implemented, and identify strategies for ensuring that available federal resources are directed to areas of greatest need. To supplement the analysis of existing quantitative data sources, including Ryan White HIV/AIDS Program data, Medicaid enrollment and claims data, and HIV surveillance data, this two-year information collection request is for primary data collection in the form of telephone interviews with administrators of Ryan White grants and providers of HIV care services. In light of Congressional interest expressed in Senate Report 111-243 concerning how the Ryan White Program will transition into a larger system of care with the implementation of the Affordable Care Act, these interviews will help ASPE to understand the potential impact of the Affordable Care Act from the perspectives of Ryan White grantees and service providers. The interview protocols will cover topics including HIV service needs and use; coordination of client insurance enrollment, benefits, and services; factors that influence variation in HIV care costs and selection of AIDS Drug Assistance Program cost containment procedures; and methods of ensuring quality care.

Estimated Annualized Burden Table
Type of respondent | Number of respondents | Number of responses per respondent | Average burden hours per response | Total burden hours
Ryan White Part A Grantees (metropolitan area officials) | 26 | 1 | 1.08 | 28
Ryan White Part B Grantees (state officials) | 51 | 1 | 1.08 | 55
Ryan White Part A, B, C, D, or Minority AIDS Initiative Providers (service providers) | 133 | 1 | 55/60 | 122
Total | 210 |  |  | 205

Keith A. Tucker,
Office of the Secretary, Paperwork Reduction Act Reports Clearance Officer.

[FR Doc. 2012-5666 Filed 3-7-12; 8:45 am]

BILLING CODE 4150-05-P